DEPARTMENT OF ENERGY

Proposed Agency Information Collection

AGENCY: U.S. Department of Energy.

ACTION: Notice and request for OMB review and comment.

SUMMARY: The Department of Energy (DOE) has submitted to the Office of Management and Budget (OMB) for clearance, a proposal for collection of information under the provisions of the Paperwork Reduction Act of 1995. The proposed collection will collect data on the status of Weatherization Assistance Program (WAP), State Energy Program (SEP) and Energy Efficiency and Conservation Block Grant (EECBG) Program activities under the American Recovery and Reinvestment Act of 2009 to ensure that recipients are compliant with Section 106 of the National Historic Preservation Act (NHPA). Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this collection must be received on or before October 7, 2010. Comments should be specific in nature and indicate as precisely as possible the applicable guidance documents. If you anticipate difficulty in submitting comments within that period, contact the person listed below as soon as possible. If you anticipate that you will be submitting comments, but find it difficult to do so within the period of time allowed by this notice, please advise the DOE Desk Officer at OMB of your intention to make a submission as soon as possible. The Desk Officer may be contacted at 202-395-4650.

ADDRESSES: Written comments should be sent to the DOE Desk Officer, Office of Information and Regulatory Affairs, Office of Management and Budget, New Executive Office Building, Room 10102, 735 17th Street, NW., Washington, DC 20503; and to Christine Platt Patrick, EE-2K, U.S. Department of Energy, 1000 Independence Ave., SW., Washington, DC 20585, Fax: (202) 586-1233, E-mail: Christine.Platt@ee.doe.gov (Preferred).

FOR FURTHER INFORMATION CONTACT: Christine Platt Patrick, EE-2K, U.S. Department of Energy, 1000 Independence Ave., SW., Washington, DC 20585, Fax: (202) 586-1233, E-mail: Christine.Platt@ee.doe.gov.

Draft reporting guidance concerning the Historic Preservation reporting requirement for EECBG, WAP, and SEP will be available for review at the following Web site: http://www1.eere.energy.gov/wip/recovery_act_guidance.html.

SUPPLEMENTARY INFORMATION: This information collection request contains: OMB No: New; (2) Information Collection Request Title: Historic Preservation for Office of Weatherization and Intergovernmental Programs; (3) Type of Request: Emergency; (4) Purpose: To collect data on the status of Weatherization Assistance Program (WAP), State Energy Program (SEP) and Energy Efficiency and Conservation Block Grant (EECBG) Program activities to ensure compliance with Section 106 of the NHPA. (5) Annual Estimated Number of Respondents: 2,473; (6) Annual Estimated Number of Total Responses: 2,473 (7) Annual Estimated Number of Burden Hours: 2,473; (8) Annual Estimated Reporting and Recordkeeping Cost Burden: 0. Statutory Authority: Section 106 of the National Historic Preservation Act (Pub. L. 89-665 106) and its implementing regulations.

Issued in Washington, DC on September 16, 2010.
Cathy Zoi,
Assistant Secretary, Energy Efficiency and Renewable Energy.

[FR Doc. 2010-23796 Filed 9-22-10; 8:45 am]

BILLING CODE 6450-01-P